ENVIRONMENTAL PROTECTION AGENCY

40 CFR Part 52

[PA-4147a; FRL-7040-2]

Approval and Promulgation of Air Quality Implementation Plans; Pennsylvania; NOX RACT Requirements for Four Individual Sources in the Pittsburgh-Beaver Valley Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) related requirements to limit nitrogen oxides ( NOX) from four sources. These sources are located in the Pittsburgh-Beaver Valley ozone nonattainment area (the Pittsburgh area). EPA is approving these revisions to the SIP in accordance with the Clean Air Act (CAA).

DATES: This rule is effective on October 9, 2001 without further notice, unless EPA receives adverse written comment by September 21, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; Allegheny County Health Department, Bureau of Environmental Quality, Division of Air Quality, 301 39th Street, Pittsburgh, Pennsylvania 15201 and the Pennsylvania Department of Environmental Protection, Bureau of Air Quality Control, P.O. Box 8468, 400 Market Street, Harrisburg, Pennsylvania 17105.

FOR FURTHER INFORMATION CONTACT: Rose Quinto at (215) 814-2182, the EPA Region III address above or by e-mail at quinto.rose@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are:

(1) All sources covered by a Control Technique Guideline (CTG) document issued between November 15, 1990 and the date of attainment;

(2) All sources covered by a CTG issued prior to November 15, 1990; and

(3) All major non-CTG sources. The regulations imposing RACT for these non-CTG major sources were to be submitted to EPA as SIP revisions by November 15, 1992 and compliance required by May of 1995.

The Pennsylvania SIP already includes approved RACT regulations for all sources and source categories covered by the CTGs. On February 4, 1994, PADEP submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/ NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case-by-case RACT determination for a major source of NOX in no way relieves that source from any applicable requirements found in 25 PA Code Chapters 121, 123 and 145.

II. Summary of the SIP Revisions

On July 1, 1997, PADEP submitted revisions to the Pennsylvania SIP which establish and impose RACT and RACT-related requirements for several major sources of VOC and/or NOX. This rulemaking pertains to four of those sources for their NOX emissions. The remaining sources are or have been the subject of separate rulemakings. The Commonwealth's submittals consist of plan approval and agreement upon consent orders (consent Orders or COs) and an enforcement order (EO) issued by the Allegheny County Health Department (ACHD). The PADEP submitted these COs and EO to EPA, on behalf of ACHD, as SIP revisions. These four sources are located in the Pittsburgh area.

A. General Motors Corporation

General Motors Corporation (GMC) is an automotive parts manufacturing facility located in West Mifflin, Allegheny County, Pennsylvania. GMC had the potential to emit more than 100 tons per year (tpy) of NOX. In this instance, the ACHD issued CO 243 to GMC. On July 1, 1997, PADEP submitted CO 243 to EPA on behalf of the ACHD as a SIP revision. CO 243 requires GMC not to exceed annual NOX emissions of 99 tons per year, and also not to exceed the combined actual heat input to boilers number 1 and 2 of 355,651 MMBTUs/year. For the annual limits imposed in CO 243 to meet EPA's Federal enforceability criteria for limiting this source's potential to emit below the major source threshold, the annual limits imposed in CO 243 must be met on a rolling monthly basis over every consecutive 12 month period. Under CO 243, GMC must maintain records to demonstrate compliance with this CO and Article XXI, section 2105.06. Records shall include, but not be limited to the fuel type and amount of fuel usage for boilers number 1 and 2. All records shall be retained for at least two years.

B. Oakmont Steel, Inc.

Oakmont Steel, Inc. (OSI) is a steel production facility located in Oakmont, Allegheny County, Pennsylvania. OSI had the potential to emit more than 100 tpy of NOX. In this instance, the ACHD issued CO 226 to OSI. On July 1, 1997, PADEP submitted CO 226 to EPA on behalf of the ACHD as a SIP revision. CO 226 requires OSI's annual NOX emissions not to exceed 100 tons per year. For the annual limits imposed in CO 226 to meet EPA's Federal enforceability criteria for limiting this source's potential to emit below the major source threshold, the annual limits imposed in CO 226 must be met on a rolling monthly basis over every consecutive 12 month period. Under CO 226, OSI must maintain records to demonstrate compliance with this CO and Article XXI, section 2105.06. Records shall include the fuel type and fuel usage for the facility. All records shall be retained for at least two years.

C. The Peoples Natural Gas, Co.

The Peoples Natural Gas, Co. (PNG) is a natural gas compressor station located in Plum Borough, Allegheny County, Pennsylvania. PNG had the potential to emit more than 100 tpy of NOX. In this instance, the ACHD issued CO 240 to PNG. On July 1, 1997, PADEP submitted CO 240 to EPA on behalf of the ACHD as a SIP revision. CO 240 requires PNG not to exceed the annual NOX emissions of 95 tons per year. For the annual limits imposed in CO 240 to meet EPA's Federal enforceability criteria for limiting this source's potential to emit below the major source threshold, the annual limits imposed in CO 240 must be met on a rolling monthly basis over every consecutive 12 month period. Under CO 240, PNG must maintain records to demonstrate compliance with this CO and Article XXI, section 2105.06. Records shall include, but not limited to the fuel type and amount of fuel usage per engine, and the hours of operation of the engine. All records shall be retained for at least two years.

D. U.S. Bureau of Mines

U.S. Bureau of Mines (USBM) is a power manufacturing facility located in Pittsburgh, Allegheny County, Pennsylvania. USBM is a major NOX emitting facility. In this instance, RACT has been established and imposed by ACHD in EO 215. On July 1, 1997, PADEP submitted this EO 215 to EPA on behalf of the ACHD as a SIP revision. EO 215 requires USBM not to allow the operating hours and NOX emissions from the subject equipment to exceed the following limitations:

Unit | Annual operating hours | NOX emissions: lbs/MMBTU | NOX emissions: Tons/year
Boiler #1 | 6797 | 0.29 | 64.8
Boiler #3 | 6797 | 0.13 | 12.6
Boiler #4 | 6797 | 0.13 | 12.6
| Total annual limits | 20,391 |  | 90.0

Under EO 215, USBM must maintain records to demonstrate compliance with this EO and Article XXI, section 2105.06. The annual limits imposed in EO 215 must be met on a rolling monthly basis over every consecutive 12 month period. Records shall include certifications from fuel suppliers for all types of fuel and for each shipment of distillate oils number 1 or 2; and a certification that the fuel complies with ASTM D396-78, “Standard Specifications for Fuel Oils”. All records shall be retained for at least two years. USBM shall operate and maintain all process and emission control equipment according to good engineering practice.

III. EPA's Evaluation of the SIP Revisions

EPA is approving these SIP submittals because ACHD established and imposed requirements in accordance with the criteria set forth in SIP-approved regulations for imposing RACT or for limiting a source's potential to emit. The ACHD has also imposed record-keeping, monitoring, and testing requirements on these sources sufficient to determine compliance with these requirements.

IV. Final Action

EPA is approving the revisions to the Pennsylvania SIP submitted by PADEP on behalf of ACHD to reduce NOX from four sources located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 6, 2001 without further notice unless EPA receives adverse comment by September 21, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for four named sources.

C. Petitions for Judicial Review

Under section 307(b)(1) of the Clean Air Act, petitions for judicial review of this action must be filed in the United States Court of Appeals for the appropriate circuit by October 22, 2001. Filing a petition for reconsideration by the Administrator of this final rule does not affect the finality of this rule for the purposes of judicial review nor does it extend the time within which a petition for judicial review may be filed, and shall not postpone the effectiveness of such rule or action. This action approving the Commonwealth's source-specific requirements to control NOX from four individual sources in Pennsylvania may not be challenged later in proceedings to enforce its requirements. (See section 307(b)(2).)

List of Subjects in 40 CFR Part 52

Environmental protection, Air pollution control, Hydrocarbons, Incorporation by reference, Nitrogen Oxides, Ozone, Reporting and recordkeeping requirements.

Dated: August 14, 2001.
Thomas C. Voltaggio,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(181) to read as follows:

§ 52.2020 Identification of plan.

* * * * *

(c) * * *

(181) Revisions pertaining to NOX RACT-related requirements for General Motors, Corp.; Oakmont Steel, Inc.; The Peoples Natural Gas, Co.; and U.S. Bureau Of Mines located in Allegheny County portion of the Pittsburgh-Beaver Valley ozone nonattainment area, submitted by the Pennsylvania Department of Environmental Protection on July 1, 1997.

(i) Incorporation by reference.

(A) Letter dated July 1, 1997, submitted by the Pennsylvania Department of Environmental Protection transmitting several source-specific VOC and/or NOX RACT related determinations.

(B) Plan Approval and Agreement Upon Consent Orders (COs) and an Enforcement Order (EO) for the following sources:

(1) General Motors, Corp., CO 243, effective August 27, 1996, except for condition 2.5.

(2) Oakmont Steel, Inc., CO 226, effective May 14, 1996, except for condition 2.5.

(3) The Peoples Natural Gas, Co., CO 240, effective August 27, 1996, except for condition 2.5.

(4) U.S. Bureau of Mines, EO 215, effective March 8, 1996, except for condition 2.5.

(ii) Additional Materials—Other materials submitted by the Commonwealth of Pennsylvania in support of and pertaining to the sources listed in paragraph (c)(181)(i)(B) of this section.

[FR Doc. 01-21148 Filed 8-21-01; 8:45 am]

BILLING CODE 6560-50-P